DEPARTMENT OF HEALTH AND HUMAN SERVICES

Centers for Disease Control and Prevention

The Centers for Disease Control and Prevention (CDC)and the Agency for Toxic Substances and Disease Registry (ATDSR) Announces the Following Meetings

Name: National HIV Prevention Plan Meetings.

Time and Dates: 9 a.m.-12 p.m. (noon).

Tuesday—July 18, 2000

Hotel Pennsylvania, 401 7th Avenue, New York, NY 10001, Phone: 212-736-5000

Wednesday—July 26, 2000

Crowne Plaza-Houston, 2222 West Loop South, Houston, TX 77027, Phone: 713-961-7272

Thursday—July 27, 2000

Congress Plaza Hotel, 520 South Michigan Avenue, Chicago, IL 60605, Phone: 312-427-3800

Tuesday—August 1, 2000

The Argent Hotel, 50 Third Street, San Francisco, CA 94103, Phone: 415-974-6400

Place: See Above.

Status: Open to the public, limited only by the space available. The meeting room accommodates approximately 100 people.

Purpose: To present the current draft of the Centers for Disease Control and Prevention's National HIV Prevention Strategic Plan and to provide an opportunity for community comment.

Matters To Be Discussed: Agenda items include background and development of the draft National HIV Prevention Strategic Plan; the plan itself; next steps in plan development; and public comments.

Contact Person for More Information: Lydia Ogden, National Center for HIV, STD, and TB Prevention, Office of Planning and Policy Coordination, 1600 Clifton Road, N.E., M/S E-07, Atlanta, Georgia 30333, telephone 404/639-8031.

The Director, Management Analysis and Services Office, has been delegated the authority to sign Federal Register Notices pertaining to announcements of meetings and other committee management activities, for both the Centers for Disease Control and Prevention and the Agency for Toxic Substances and Disease Registry.

Dated: June 23, 2000.
Carolyn J. Russell,
Director, Management Analysis and Services Office, Centers for Disease Control and Prevention.

[FR Doc. 00-16846 Filed 7-3-00; 8:45 am]

BILLING CODE 4163-18-P